DEPARTMENT OF TRANSPORTATION

Federal Aviation Administration

[Docket No. FAA-2004-19612]

Use of Non-Original Equipment Manufacturer's Components in Certified Aviation Obstruction/Antenna Lighting Systems

AGENCY: Federal Aviation Administration (FAA), Department of Transportation (DOT).

ACTION: Notice of policy; request for comments.

SUMMARY: On June 17, 2004, the FAA published a notice of policy in the Federal Register pertaining to the use of replacement components to repair certified lighting systems on antenna structures. The notice dealt with the issue of certified lighting systems manufactured by original equipment manufacturers (OEMs) that have been repaired with replacement components manufactured by other manufacturers (non-OEMs). Since the publication of that notice, the FAA has received information from manufacturers of certified lighting systems and of replacement components. After reviewing this information, as well as the information that led the agency to publish the notice of policy, the FAA has determined that further public input and further study by the agency are necessary to assess (1) the adequacy of existing guidance in FAA advisory circulars pertaining to obstruction lighting, and (2) the need for any changes in such guidance. Accordingly, the agency is withdrawing its June 17, 2004, notice of policy. In addition, the FAA is announcing an immediate interim expansion of the Airport Lighting Equipment Certification Program (the certification program), provided for in Advisory Circular (AC) 150/5345-53B. Manufacturers of obstruction lighting systems may show compliance with FAA specifications through the certification program. Under the certification program, manufacturers of obstruction lighting systems have their products tested by third party certification bodies to determine whether those systems meet the FAA specifications set forth in another advisory circular, AC 150/5345-43E. The certification program, however, does not provide a method for certifying replacement components. The interim procedure announced here will provide a mechanism for certification of airport lighting equipment that contains replacement parts not produced by the original equipment manufacturer while the agency reviews its policy in this area.

DATES: Comments must be received by January 11, 2005. Comments that are received after that date will be considered only to the extent possible.

ADDRESSES: This notice is available for public review in the Dockets Office, U.S. Department of Transportation, Room Plaza Level (PL) 401, 400 Seventh Street, SW., Washington, DC 20590-0001. The documents have been filed under Docket No. FAA-200_-XXXXX. The Dockets Office is open between 9 a.m. and 5 p.m., Monday through Friday, except Federal holidays. The Dockets Office is on the plaza level of the Nassif Building at the Department of Transportation at the above address.

Also, you may review public dockets on the Internet at http://dms.dot.gov. Comments on the proposed policy must be delivered or mailed, in duplicate, to: the Docket Management System, U.S. Department of Transportation, Room Plaza Level 401, 400 Seventh Street, SW., Washington, DC 20590-0001. You must identify the docket number “FAA Docket No. FAA-200_-XXXXX” at the beginning of your comments. Commenters wishing the FAA to acknowledge receipt of their comments must include a preaddressed, stamped postcard on which the following statement is made: “Comments to FAA Docket No. FAA-200_-XXXXX.” The postcard will be date-stamped and mailed to the commenter. You may also submit comments through the Internet to http://dms.gov.

FOR FURTHER INFORMATION CONTACT: Rick Marinelli, Manager, Airport Engineering Division, AAS-100, Federal Aviation Administration, 800 Independence Avenue, SW., Washington, DC 20591, telephone (202) 267-7669.

SUPPLEMENTARY INFORMATION: On June 17, 2004, the FAA published a notice in the Federal Register advising that if certain non-OEM replacement components were installed in certified lighting systems, those systems could not longer be considered certified under FAA standards. The agency wrote further that a tower owner who used a non-OEM replacement part in a certified lighting system could be liable for possible violations of a regulation promulgated by the Federal Communications Commission, 47 CFR 1723, requiring that FCC-licensed broadcast towers use lighting systems that comply with FAA specifications. That FCC regulation makes it mandatory for FCC-licensed broadcast towers to meet the specifications, standards, and general requirements stated in FAA AC 70/7460-1J, Obstruction Marking and Lighting, (which has been replaced by AC 70/7460-1K) and FAA AC 150/5345-43E, Specification for Obstruction Lighting Equipment.

AC 150/5345-53B, Airport Lighting Equipment Certification Program, establishes a certification program that applies to numerous types of airport lighting equipment, including obstruction lighting systems. The certification program is designed to ensure a high level of aviation safety. Under the certification program, third party certification bodies (listed in Appendix 1 of AC 150/5345-53B) test lighting equipment to determine whether it complies with the FAA's substantive standards prescribed in AC 150/5345-43E for all obstruction lighting systems. Lighting equipment that is certified by third party certification bodies is listed in Appendix 3 of AC 150/5345-53B.

In its current form, AC 150/5345-53B provides for certification only of entire lighting systems, and makes no provision for certification of such systems' individual components. Thus, AC 150/5345-53B does not provide a mechanism for ensuring that a certified lighting system in which non-OEM replacement components have been installed continues to meet the safety standards of AC 150/5345-43E. A non-OEM replacement part might perform as well as the original components in the system, but there is no current way under the current certification program for the FAA, the FCC, and/or the tower operator/owner to know that. Knowing the performance of safety equipment is the core purpose of certification, and the use of non-OEM replacement components in certified equipment at least has the potential for undermining the safety purpose and benefits of the certification program.

The FAA is considering developing a permanent procedure that would be available for the certification of all qualified equipment that will meet FAA safety standards. As explained below, we are soliciting public comment regarding the possible expansion of the certified equipment list and specifications to include equipment with non-OEM replacement parts.

Request for Comments on Certification of Replacement Parts

The FAA is requesting comment on the general scope and procedures for the certification of obstruction lighting equipment systems containing non-OEM components. Based on the comments received, the FAA will consider whether to publish specific guidance implementing such a change, in the form of changes to AC 150/5345-43E, AC 150/5345-53B and AC 70/7460-1K. We will publish that specific guidance for further comment before issuing a final version.

At this time, the FAA is requesting comment on the following general questions and issues:

1. What certification procedure should apply to a replacement part that is only part of a unit listed in Appendix 3 of AC 150/5345-53B?

2. What safety issues should be considered in the certification of replacement parts (both OEM and non-OEM)?

3. Should special testing procedures apply to replacement parts (such as lamp burn in and photometric testing)?

4. How can replacement parts be listed in Appendix 3 of AC 150/5345-53B in a manner that makes clear that their use is limited to particular units or systems?

5. What terminology should apply to replacement parts to distinguish them from the original units now listed in Appendix 3 of AC 150/5345-53B?

6. What provision should be made for out-of-production equipment for which OEM replacement components are unavailable, and for which a new unit may not be available for use in certifying replacement parts?

7. What provision should be made for stock parts which currently may be subject to more stringent requirements by the manufacturers of original light systems than the specifications of the stock parts manufacturers?

Interim Procedure for Recertification of Certified Lighting Equipment With Non-OEM Components

Review of public comments responding to this notice and development of a change to the airport lighting equipment certification program to include testing and certification of equipment with non-OEM replacement components could require a number of months. Because the FAA believes that the certification program promotes air safety, we have decided to provide an interim procedure for certification of lighting systems that incorporate replacement parts produced by non-OEMs. The FAA does not intend to establish permanent, specific criteria for certification of equipment with non-OEM replacement lighting components without first issuing such criteria in proposed form and requesting public comment.

While the agency considers a permanent change, the FAA will allow the following procedure—effective immediately—to determine whether particular parts can be installed in existing certified fixtures and be certified. Under the interim process, the FAA will consider the substitution of a non-OEM parts as equivalent to an equipment modification by an original equipment manufacturer for the purposes of testing for recertification. Equipment modification by original equipment manufacturers is dealt with in paragraph 7, Modifications to Equipment, of Appendix 2 of AC 150/5345-53B. Under that paragraph, recertification of the entire lighting system is required when an original equipment manufacturer modifies the system. Applying that paragraph to non-OEM replacement parts, the non-OEM supplier may obtain certified equipment, substitute its own replacement part(s), and submit the modified device to a third party certification body for testing. Non-OEMs seeking interim certification of their replacement parts in OEM lighting equipment will be required to follow the same procedures as OEMs of lighting equipment as provided in paragraph 2a of AC 150/5345-53B. Also, these non-OEMs will be required to pay for the costs of testing their products in OEM lighting equipment, just as OEMs, under paragraph 2b of that advisory circular bear, the costs of testing their equipment. The addendum to AC 150/5345/53B will be modified to include equipment certified in this manner with specific substitute part(s). Separate tests will be required for each combination of substitute parts (e.g., a supplier selling both a flash tube and a timing circuit must have a device certified with each part substituted independently, and then together).

As part of this interim procedure, non-OEM components will be subject to Appendix 2 of AC 150/5345-53B with the following exception. Paragraph 7 of Appendix 2 of that AC notes that “substitution of stock electrical items such as resistors, capacitors, transistors, etc., which are identical in form, fit, and function and which are equal to or better in quality and rating is permissible.” This exemption is not extended automatically to non-OEM suppliers, as OEM specifications for stock items may be more stringent than those applied by the manufacturers of those items. However, this exemption may be granted at the third party certification body's judgment. The requirements of Appendix 5, Lamp Life Test Procedure, in AC 150-5345-53B, will apply to replacement lamps. Upon the issuance of any permanent change to the certification program, the FAA will decide if substitute parts certified under this interim program will require further testing to retain certified status.

Issued in Washington DC, on November 4, 2004.
J.R. White,
Director of Airport Safety and Standards.

[FR Doc. 04-25209 Filed 11-10-04; 8:45 am]

BILLING CODE 4910-13-M